DEPARTMENT OF HOMELAND SECURITY

Federal Emergency Management Agency

Agency Information Collection Activities: Submission for OMB Review; Comment Request

AGENCY: Federal Emergency Management Agency, DHS.

ACTION: Notice and request for comments.

SUMMARY: The Federal Emergency Management Agency (FEMA), as part of its continuing effort to reduce paperwork and respondent burden, invites the general public and other Federal agencies to take this opportunity to comment on a proposed continuing information collection. In accordance with the Paperwork Reduction Act of 1995, this notice seeks comments concerning the adequacy of two forms FEMA uses to gather certain information about the floodplain management activities of communities that participate in the National Flood Insurance Program (NFIP). The forms are used to gather information about a community's floodplain management regulations, administrative and enforcement procedures, flood insurance studies, and basic information pertaining to names, addresses, and phone numbers of individuals responsible for a community's floodplain management program.

SUPPLEMENTARY INFORMATION: The information gathered on the subject forms pertain to a community's participation in the NFIP. The NFIP was established by the National Flood Insurance Act of 1968 (the Act). Section 1315 of the Act requires the adoption of permanent land use and control measures which are consistent with the comprehensive criteria of land management and use under section 1361. In 44 CFR 59.24 requirements are established for the continued eligibility to participate in the NFIP based upon implementing an adequate community based floodplain management program. The information gathered with the forms is used to evaluate the adequacy of a community's floodplain management program as it relates to continued participation in the NFIP.

Collection of Information

Title: Effectiveness of a Community's Implementation of the NFIP Community Assistance Program Community Assistance Contact (CAC) and Community Assistance Visit (CAV) Reports.

Type of Information Collection: Revision of currently approved collection.

OMB Number: 1660-0023.

Form Numbers: Form 81-68 (Community Assistance Report); Form 81-69 (Community Contact Report).

Abstract: The forms that are the subject of this OMB review, the “Community Contact Report” (FF 81-68) and the “Community Visit Report” (FF 81-69) are the documents used to record the information gathered during CACs and CAVs. The data obtained from the Community Assistance Contact (CAC) and Community Assistance Visit (CAV) forms information collection effort is used to assist with the management of the NFIP. A major objective of the NFIP is to assure that participating communities are achieving the flood loss reduction objectives of the program. To achieve this objective, FEMA's Mitigation Directorate implemented a process to evaluate the floodplain management assistance needed by communities and how well communities are implementing their floodplain management programs. By determining the assistance needed and how well communities are performing their responsibilities, FEMA can identify, prevent, and resolve floodplain management issues before problems arise that require enforcement actions.

The two key methods FEMA uses in determining community assistance needs are through the CAC and CAV, which serve to provide a systematic means of monitoring community NFIP compliance. Through the CAC and CAV, FEMA can also determine to what extent communities are achieving the flood loss reduction objectives of the NFIP. By providing assistance to communities, the CAC and CAV also serve to enhance FEMA's goals of reducing future flood losses, thereby achieving the cost-containment objectives of the NFIP.

Affected Public: Federal, State, Local, or Tribal Governments.

Estimated Total Annual Burden Hours: 168 hours.

Data collection activity/instrument | Number of respondents (A) | Frequency of responses (B) | Hour burden per response (C) | Annual responses (D) = (A×B) | Total annual hour burden (E) = (C×D)
FF 81-68 (CAV) | 1,000 | 1 | 2 | 1,000 | 2,000
FF 81-69 (CAC) | 2,000 | 1 | 1 | 2,000 | 2,000
Total | *3,000 |  |  | 3,000 | 4,000
* The burden estimates proposed in 72 FR 36014, July 2, 2007, have been changed to correct the number of respondents from 56 to 3000. Therefore the estimated cost has been changed from $8,400 to $200,000.

Estimated Cost: The total estimated burden cost of State Officials to complete and review these forms is estimated to be $200,000 annually.

Comments: Interested persons are invited to submit written comments on the proposed information collection to the Office of Information and Regulatory Affairs, Office of Management and Budget, Attention: Nathan Lesser, Desk Officer, Department of Homeland Security/FEMA, and sent via electronic mail to oira_submission@omb.eop.gov or faxed to (202) 395-6974. Comments must be submitted on or before October 17, 2007.

FOR FURTHER INFORMATION CONTACT: Contact Rachel Sears, Program Specialist, at 202-646-2977 for additional information. You may contact the Records Management Branch for copies of the proposed collection of information at facsimile number (202) 646-3347 or e-mail address: FEMA-Information-Collections@dhs.gov.

Dated: September 12, 2007.
John A. Sharetts-Sullivan,
Director, Records Management and Privacy, Office of Management Directorate, Federal Emergency Management Agency, Department of Homeland Security.

[FR Doc. E7-18240 Filed 9-14-07; 8:45 am]

BILLING CODE 9110-12-P